DEPARTMENT OF TRANSPORTATION

Federal Aviation Administration

14 CFR Part 39

[Docket No. FAA-2025-1103; Project Identifier AD-2024-00141-T; Amendment 39-23246; AD 2026-02-10]

RIN 2120-AA64

Airworthiness Directives; The Boeing Company Airplanes

AGENCY: Federal Aviation Administration (FAA), DOT.

ACTION: Final rule.

SUMMARY: The FAA is superseding Airworthiness Directive (AD) 2024-01-01, which applied to certain The Boeing Company Model 787-8, 787-9, and 787-10 airplanes. AD 2024-01-01 required repetitive general visual inspections (GVIs) of the area under all lavatory washbasins for evidence of intermittent and active leaks at the faucet control module (FCM) and applicable on-condition actions. This AD was prompted by development of an FCM with an improved design that is not susceptible to leaking. This AD continues to require the actions of AD 2024-01-01 and requires replacement of the FCM as terminating action for the repetitive GVIs, a leak test, installation of moisture management devices, and applicable on-condition actions. The FAA is issuing this AD to address the unsafe condition on these products.

DATES: This AD is effective March 9, 2026.

The Director of the Federal Register approved the incorporation by reference of certain publications listed in this AD as of March 9, 2026.

The Director of the Federal Register approved the incorporation by reference of a certain other publication listed in this AD as of March 7, 2024 (89 FR 6422, February 1, 2024).

ADDRESSES:

AD Docket: You may examine the AD docket at regulations.gov under Docket No. FAA-2025-1103; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For the Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-1103.

FOR FURTHER INFORMATION CONTACT: Joshua Baek, Aviation Safety Engineer, FAA, 2200 South 216th St., Des Moines, WA 98198; phone: 562-627-6725; email: Joshua.Y.Baek@faa.gov.

SUPPLEMENTARY INFORMATION:

Background

The FAA issued a notice of proposed rulemaking (NPRM) to amend 14 CFR part 39 to supersede AD 2024-01-01, Amendment 39-22652 (89 FR 6422, February 1, 2024) (AD 2024-01-01). The NPRM was published in the Federal Register on June 16, 2025 (90 FR 25166). AD 2024-01-01 applied to certain The Boeing Company Model 787-8, 787-9, and 787-10 airplanes. AD 2024-01-01 was prompted by reports of undetected water leaks from the FCM migrating below the passenger floor in multiple lavatory locations during flight, and into the electronic equipment bay(s). The NPRM was prompted by development of an FCM with an improved design that is not susceptible to leaking. In the NPRM, the FAA proposed to continue to require repetitive GVIs of the area under all lavatory washbasins for evidence of intermittent and active leaks at the FCM and applicable on-condition actions. The NPRM also proposed to require replacement of the FCM as terminating action for the repetitive GVIs, a leak test, installation of moisture management devices, and applicable on-condition actions. The FAA is issuing this AD to address undetected water leaks, which could damage flight critical equipment. The unsafe condition, if not addressed, could result in loss of multiple line replaceable units and subsequent loss of continued safe flight and landing.

Discussion of Final Airworthiness Directive

Comments

The FAA received comments from Air Line Pilots Association, International (ALPA) and United Airlines, who supported the NPRM without change.

The FAA received additional comments from three commenters, including All Nippon Airways (All Nippon), Boeing, and Jetstar Airways (Jetstar). The following presents the comments received on the NPRM and the FAA's response to each comment.

Request To Update the Description for Group 4 Airplanes

Boeing requested that the FAA update the description for Group 4 airplanes in Boeing Alert Requirements Bulletin B787-81205-SB250291-00 RB, Issue 002, dated November 22, 2024 (Issue 002 of Boeing Alert Requirements Bulletin B787-81205-SB250291-00 RB), to include airplanes that have completed Work Package 1 in Boeing Alert Service Bulletin B787-81205-SB250291-00, Issue 001, dated August 30, 2023 (Issue 001 of Boeing Alert Requirements Bulletin B787-81205-SB250291-00 RB). Boeing stated that the Group 4 description does not account for the fact that FCM part number (P/N) AFUT000200A0004 was installed on Group 4, Configuration 3 airplanes as part of Work Package 1 of Issue 001 of the Boeing Alert Requirements Bulletin B787-81205-SB250291-00 RB. For this reason, Boeing also requested that the proposed AD be revised to clarify there is no action for those airplanes in Work Package 1 of Issue 002 of Boeing Alert Requirements Bulletin B787-81205-SB250291-00 RB.

The FAA agrees that Group 4, Configuration 3 airplanes are not required to accomplish Work Package 1 of Issue 002 of Boeing Alert Requirements Bulletin B787-81205-SB250291-00 RB because, per the Group 4, Configuration 3 description, those airplanes incorporated Issue 001 of Boeing Alert Requirements Bulletin B787-81205-SB250291-00, which includes installation of FCM P/N AFUT000200A0004. However, no change to this AD is necessary in this regard because Boeing's concern is addressed in paragraph (j)(2) of this AD.

The FAA acknowledges Boeing's concern regarding the Group 4 description in Issue 002 of Boeing Alert Requirements Bulletin B787-81205-SB250291-00 RB but has determined that revising the AD in this regard is not necessary. The Group 4, Configuration 3 description, along with the exception in paragraph (j)(2) of this AD, provide sufficient clarification regarding the requirements for Group 4, Configuration 3 airplanes.

Request To Address Airplanes With Devices Installed in Production

Boeing requested that the FAA update the Configuration 1 descriptions for Groups 4 and 5 in table 1 of paragraph A.1 of Issue 002 of Boeing Alert Requirements Bulletin B787-81205-SB250291-00 RB to include airplanes that had the intent of “Boeing Service Bulletin B787-81205-SB250249-00” incorporated during production. Boeing identified some airplanes within these groups that had the P200 panel moisture management device changes incorporated in production. Boeing noted that the current configuration descriptions only account for the P200 panel moisture management device changes installed in accordance with “Boeing Service Bulletin B787-81205-SB250249-00” after production.

All Nippon requested that the FAA add an exception to the proposed AD to clarify that airplane line numbers included in paragraph (c) of the proposed AD but not included in the effectivity of Boeing Service Bulletin B787-81205-SB250249-00, Issue 002, dated February 26, 2024 (Issue 002 of Boeing Service Bulletin B787-81205-SB250249-00), are not subject to the requirement to install moisture management devices for the P200 panel. All Nippon asserted that airplanes not included in the effectivity of Issue 002 of Boeing Service Bulletin B787-81205-SB250249-00 have already had the P200 panel moisture management device installed during production. All Nippon noted those airplanes do not fall under Configuration 1 or 2 for any of the groups identified in Issue 002 of Boeing Alert Requirements Bulletin B787-81205-SB250291-00 RB.

The FAA agrees with Boeing's request to revise the Configuration 1 descriptions for Groups 4 and 5 by including airplanes that had the P200 panel moisture management device changes incorporated during production. Accordingly, the FAA has added a new exception to paragraph (j)(3) of this AD. The FAA notes that this exception also addresses All Nippon's concern, so no additional change to this AD is necessary in regard to that comment.

Request To Correct Certain Station (STA) Numbers

Boeing and Jetstar requested that the FAA replace references to STA 1256 and STA 1232 with STA 1281 and STA 1257, respectively, in figure 1 of task 7 in Issue 002 of Boeing Alert Requirements Bulletin B787-81205-SB250291-00 RB. Boeing, Jetstar, and All Nippon also requested that STA 1218 be replaced with STA 1233 in figures 1, 4, 5, and 6 of task 7 in Issue 002 of Boeing Alert Requirements Bulletin B787-81205-SB250291-00 RB. Boeing stated that the wrong STA numbers were inadvertently included.

The FAA agrees. The FAA has added new exceptions in paragraphs (j)(4) and (5) of this AD to correct the errors.

Request To Correct Certain Table Instructions

Jetstar stated it found discrepancies while accomplishing the instructions in table 1 of task 7 in Issue 002 of Boeing Alert Requirements Bulletin B787-81205-SB250291-00 RB. Jetstar noted step 1 in table 1 of task 7 specifies to remove/keep 10 bolts, P/N BACB30NX6K3, but only specifies to remove/keep 6 collars, P/N BACC30BH6K. Jetstar also noted step 3 in table 1 of task 7 specifies to install the 10 kept bolts, P/N BACB30NX6K3, but only specifies to install 6 kept collars, P/N BACC30BH6K. Jetstar also noted that the collars cannot be reused. The FAA infers that Jetstar is requesting that the FAA revise the AD to align the quantity of bolts and collars specified in steps 1 and 3 and to allow for the installation of new collars.

The FAA acknowledges the difference in the quantity of bolts and collars specified in steps 1 and 3, as noted by the commenter. However, no change to the AD is necessary in this regard because according to Boeing only 6 collars and the supporting hardware are required to remove the clips from the foreign object debris (FOD) deflector.

The FAA agrees an exception is needed to allow installation of new collars because the instruction to install kept collars is required for compliance. Accordingly, the FAA has added a new exception to paragraph (j)(6) of this AD to specify this AD allows installation of a new or serviceable part with the same part number as an alternative to reinstalling a kept part.

Request To Address Omitted Part Number

All Nippon requested that the FAA add an exception to the proposed AD to clarify that FCM P/N AFUT000200A0001 is subject to the replacement procedures in Jamco Service Bulletin B80-25-4041, Revision 1, dated June 20, 2023, and Revision 2, dated March 15, 2024. The commenter noted Issue 002 of Boeing Alert Requirements Bulletin B787-81205-SB250291-00 RB refers to the Jamco service information as the method of compliance for replacement of FCM P/Ns AFUT000200A0001 and AFUT000200A0002, but the Jamco service information omits FCM P/N AFUT000200A0001.

The FAA agrees. Although FCM P/N AFUT000200A0001 is not referenced in the Jamco service information, the FAA has determined that the procedures in that service information may be used for replacing FCM P/N AFUT000200A0001 with FCM P/N AFUT000200A0004. Accordingly, the FAA has added a new exception to paragraph (j)(7) of this AD of this AD.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Alert Requirements Bulletin B787-81205-SB250290-00 RB, Issue 002, dated January 31, 2025. This material specifies procedures for repetitive GVIs of the area under all lavatory washbasins for evidence of intermittent and active leaks at the FCM and applicable on-condition actions. On-condition actions include replacing the affected FCM with new or serviceable FCM at affected lavatory washbasin(s) and performing a leak test. If a leak is found during the leak test, this material specifies completing applicable corrective action, repeating the leak test, and making sure no leak is found.

The FAA reviewed Boeing Alert Requirements Bulletin B787-81205-SB250291-00 RB, Issue 002, dated November 22, 2024. This material specifies procedures for replacing the FCM, performing a leak test and repairing any leaks, and installing moisture management devices if not previously installed. This material also specifies procedures for reviewing and updating, if necessary, the existing maintenance program documentation to include Maintenance Review Board Report item number 38-025-00. This material specifies that replacement of the FCM terminates the repetitive inspections (which are required by AD 2024-01-01).

This AD also requires Boeing Alert Requirements Bulletin B787-81205-SB250290-00 RB, Issue 001, dated November 1, 2022, which the Director of the Federal Register approved for incorporation by reference as of March 7, 2024 (89 FR 6422, February 1, 2024).

This material is reasonably available because the interested parties have access to it through their normal course of business or by the means identified in the ADDRESSES section.

Costs of Compliance

The FAA estimates that this AD affects 155 airplanes of U.S. registry. The FAA estimates the following costs to comply with this AD:

Estimated Costs *
Action | Labor cost | Parts cost | Cost per product | Cost on U.S. operators
GVI of area under all lavatory washbasins (retained actions from AD 2024-01-01) | 2 work-hour × $85 per hour = $170 per inspection cycle | $0 | $170 per inspection cycle | $26,350 per inspection cycle.
Replacement of FCM (new action) | 3 work-hours × $85 per hour = $255 | 6,021 | 6,276 | 972,780.
Install moisture management devices (new action) | 79 work-hours × $85 per hour = $6,715 | 1,610 | 8,325 | 432,900 (52 airplanes).
Review maintenance program documentation (new action) | 1 work-hour × $85 per hour = $85 | 0 | 85 | 13,175.
* The FAA has received no definitive data on which to base the cost estimate for the FCM replacement parts.

The FAA estimates the following costs to do any replacements that would be required based on the results of the inspection. The agency has no way of determining the number of aircraft that might need these replacements:

On-Condition Costs
Action | Labor cost | Parts cost | Cost per product
Replacement | 1 work-hour × $85 per hour = $85 | $6,021 | $6,106

The FAA has determined that revising the existing maintenance or inspection program would take an average of 90 work-hours per operator, although the agency recognizes that this number may vary from operator to operator. Since operators incorporate maintenance or inspection program changes for their affected fleet(s), the FAA has determined that a per-operator estimate is more accurate than a per-airplane estimate. Therefore, the FAA estimates the average total cost per operator would be $7,650 (90 work-hours × $85 per work-hour).

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2024-01-01, Amendment 39-22652 (89 FR 6422, February 1, 2024); and

b. Adding the following new AD:

2026-02-10 The Boeing Company: Amendment 39-23246; Docket No. FAA-2025-1103; Project Identifier AD-2024-00141-T.

(a) Effective Date

This airworthiness directive (AD) is effective March 9, 2026.

(b) Affected ADs

This AD replaces AD 2024-01-01, Amendment 39-22652 (89 FR 6422, February 1, 2024) (AD 2024-01-01).

(c) Applicability

This AD applies to The Boeing Company Model 787-8, 787-9, and 787-10 airplanes, certificated in any category, having line numbers 6 through 687 inclusive, 689 through 954 inclusive, 956 through 970 inclusive, 972 through 982 inclusive, 984 through 989 inclusive, 991 through 996 inclusive, 999, 1001 through 1008 inclusive, 1012, 1013, 1016 through 1019 inclusive, 1021, 1022, 1024 through 1026 inclusive, 1029 through 1032 inclusive, 1038, 1040, 1041, 1044, 1045, 1047, 1048, 1054 through 1062 inclusive, 1071, 1072, 1074, 1075, 1082, 1085, 1087, 1091, 1094, 1095, 1098, 1099, 1103, 1109, 1112 through 1114 inclusive, 1117, 1118, 1121, 1122, 1125, 1126, 1128 through 1134 inclusive, 1136 through 1145 inclusive, 1147, 1148, 1151, 1161, and 1167.

(d) Subject

Air Transport Association (ATA) of America Code 38, Water/waste.

(e) Unsafe Condition

This AD was prompted by reports of undetected water leaks from the faucet control module (FCM) migrating below the passenger floor in multiple lavatory locations during flight, and into the electronic equipment bay(s). The FAA is issuing this AD to address undetected water leaks, which could damage flight critical equipment. The unsafe condition, if not addressed, could result in loss of multiple line replaceable units and subsequent loss of continued safe flight and landing.

(f) Compliance

Comply with this AD within the compliance times specified, unless already done.

(g) Retained Inspection, With Revised Service Information

This paragraph restates the requirements of paragraph (g) of AD 2024-01-01, with revised service information. Except as specified by paragraph (h) of this AD: At the applicable times specified in the “Compliance” paragraph of Boeing Alert Requirements Bulletin B787-81205-SB250290-00 RB, Issue 001, dated November 1, 2022, do all applicable actions identified in, and in accordance with, the Accomplishment Instructions of Boeing Alert Requirements Bulletin B787-81205-SB250290-00 RB, Issue 001, dated November 1, 2022, or Issue 002, dated January 31, 2025. As of the effective date of this AD, only use Boeing Alert Requirements Bulletin B787-81205-SB250290-00 RB, Issue 002, dated January 31, 2025, for the actions required by this paragraph.

Note 1 to paragraph (g): Guidance for accomplishing the actions required by paragraph (g) of this AD can be found in Boeing Alert Service Bulletin B787-81205-SB250290-00, Issue 002, dated January 31, 2025, which is referred to in Boeing Alert Requirements Bulletin B787-81205-SB250290-00 RB, Issue 002, dated January 31, 2025.

(h) Retained Exception to Requirements Bulletin B787-81205-SB250290-00 RB, With No Change

This paragraph restates the exception in paragraph (h) of AD 2024-01-01, with no change. Where the Compliance Time column of the table in the “Compliance” paragraph of Boeing Alert Requirements Bulletin B787-81205-SB250290-00 RB, Issue 001, dated November 1, 2022, uses the phrase “the Issue 001 date of the Requirements Bulletin B787-81205-SB250290-00 RB,” this AD requires using March 7, 2024 (the effective date of AD 2024-01-01).

(i) New Required Actions

Except as specified by paragraph (j) of this AD: At the applicable times specified in the “Compliance” paragraph of Boeing Alert Requirements Bulletin B787-81205-SB250291-00 RB, Issue 002, dated November 22, 2024, do all applicable actions identified in, and in accordance with, the Accomplishment Instructions of Boeing Alert Requirements Bulletin B787-81205-SB250291-00 RB, Issue 002, dated November 22, 2024.

Note 2 to paragraph (i): Guidance for accomplishing the actions required by paragraph (i) of this AD can be found in Boeing Alert Service Bulletin B787-81205-SB250291-00, Issue 002, dated November 22, 2024, which is referred to in Boeing Alert Requirements Bulletin B787-81205-SB250291-00 RB, Issue 002, dated November 22, 2024.

(j) Exceptions to Requirements Bulletin B787-81205-SB250291-00 RB

(1) Where the Boeing Recommended Compliance Time columns of the tables in the “Compliance” paragraph of Boeing Alert Requirements Bulletin B787-81205-SB250291-00 RB, Issue 002, dated November 22, 2024, refer to the Issue 001 date of Requirements Bulletin B787-81205-SB250291-00 RB, this AD requires using the effective date of this AD.

(2) For Group 4, Configuration 3 airplanes identified in Boeing Alert Requirements Bulletin B787-81205-SB250291-00 RB, Issue 002, dated November 22, 2024: The actions in Table 1 and Table 2 of the Accomplishment Instructions in Boeing Alert Requirements Bulletin B787-81205-SB250291-00 RB, Issue 002, dated November 22, 2024, are not required by this AD.

(3) Where the Description column for Groups 4 and 5, Configuration 1, in table 1 of the “Effectivity” paragraph of Boeing Alert Requirements Bulletin B787-81205-SB250291-00 RB, Issue 002, dated November 22, 2024, refers to “Airplanes that have incorporated the P200 panel moisture management device changes in service bulletin B787-81205-SB250249-00”, this AD requires replacing that text with “Airplanes that have incorporated the P200 panel moisture management device changes in service bulletin B787-81205-SB250249-00 or had the intent of service bulletin B787-81205-SB250249-00 incorporated during production”.

(4) Where “Task 7 Figure 1” of Boeing Alert Requirements Bulletin B787-81205-SB250291-00 RB, Issue 002, dated November 22, 2024, refers to stations (STAs) “1218”, “1232”, and “1256”, this AD requires replacing that text with “1233”, “1257”, and “1281”, respectively.

(5) Where “Task 7 Figure 4,” “Task 7 Figure 5”, and “Task 7 Figure 6” of Boeing Alert Requirements Bulletin B787-81205-SB250291-00 RB, Issue 002, dated November 22, 2024, refer to STA “1218”, this AD requires replacing that text with “1233”.

(6) Where of the Accomplishment Instructions of Boeing Alert Requirements Bulletin B787-81205-SB250291-00 RB, Issue 002, dated November 22, 2024, specify to install a kept part, this AD allows installation of a new or serviceable part with the same part number as an alternative to the kept part.

(7) Where the Jamco service information identified in Boeing Alert Requirements Bulletin B787-81205-SB250291-00 RB, Issue 002, dated November 22, 2024, specifies procedures for replacing FCM part number (P/N) AFUT000200A0002 with FCM P/N AFUT000200A0004, those procedures are acceptable for compliance for replacing FCM P/N AFUT000200A0001 with FCM P/N AFUT000200A0004.

(k) Terminating Action for Repetitive Inspections

Replacing FCM P/N AFUT000200A0001 or P/N AFUT000200A0002 with FCM P/N AFUT000200A0004 terminates the repetitive inspections required by paragraph (g) of this AD.

(l) Credit for Previous Actions

For Group 1, 2, 3, 5, 6, and 7 airplanes and Group 4, Configuration 1 and 2 airplanes, as identified in Boeing Alert Requirements Bulletin B787-81205-SB250291-00 RB, Issue 002, dated November 22, 2024: This paragraph provides credit for the actions required by paragraph (i) of this AD, if those actions were performed before the effective date of this AD using Boeing Alert Requirements Bulletin B787-81205-SB250291-00 RB, Issue 001, dated August 30, 2023.

(m) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (n)(1) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(3) AMOCs approved for AD 2024-01-01 are approved as AMOCs for the corresponding provisions of paragraph (g) of this AD.

(n) Additional Information

(1) For more information about this AD, contact Joshua Baek, Aviation Safety Engineer, FAA, 2200 South 216th St., Des Moines, WA 98198; phone: 562-627-6725; email: Joshua.Y.Baek@faa.gov.

(2) Material identified in this AD that is not incorporated by reference is available at the address specified in paragraph (o)(5) of this AD.

(o) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on March 9, 2026.

(i) Boeing Alert Requirements Bulletin B787-81205-SB250290-00 RB, Issue 002, dated January 31, 2025.

(ii) Boeing Alert Requirements Bulletin B787-81205-SB250291-00 RB, Issue 002, dated November 22, 2024.

(4) The following material was approved for IBR on March 7, 2024 (89 FR 6422, February 1, 2024).

(i) Boeing Alert Requirements Bulletin B787-81205-SB250290-00 RB, Issue 001, dated November 1, 2022.

(ii) [Reserved]

(5) For the Boeing material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on January 27, 2026.
Peter A. White,
Deputy Director, Integrated Certificate Management Division, Aircraft Certification Service.

[FR Doc. 2026-02096 Filed 1-30-26; 8:45 am]

BILLING CODE 4910-13-P